DEPARTMENT OF TRANSPORTATION

Federal Aviation Administration

14 CFR Part 39

[Docket No. FAA-2007-28370; Directorate Identifier 2003-NM-239-AD]

RIN 2120-AA64

Airworthiness Directives; Goodrich Evacuation Systems Approved Under Technical Standard Order (TSO), TSO-C69, TSO-C69a, TSO-C69b, and TSO-69c, Installed on Various Boeing, McDonnell Douglas, and Airbus Transport Category Airplanes

AGENCY: Federal Aviation Administration (FAA), Department of Transportation (DOT).

ACTION: Notice of proposed rulemaking (NPRM).

SUMMARY: The FAA proposes to adopt a new airworthiness directive (AD) for certain Goodrich evacuation systems approved under TSO-C69, TSO-C69a, TSO-C69b, and TSO-69c, installed on certain Boeing, McDonnell Douglas, and Airbus transport category airplanes. For certain systems, this proposed AD would require replacing the evacuation systems shear-pin restraints with new ones. For certain other systems, this proposed AD would require an inspection for manufacturing lot numbers; and a general visual inspection of the shear-pin restraint for discrepancies, and corrective actions if necessary. This proposed AD is prompted by several reports of corroded shear-pin restraints that prevented Goodrich evacuation systems from deploying properly. We are proposing this AD to prevent failure of the evacuation system, which could impede an emergency evacuation and increase the chance of injury to passengers and flightcrew during the evacuation.

DATES: We must receive comments on this proposed AD by July 23, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

Contact Goodrich, Aircraft Interior Products, ATTN: Technical Publications, 3414 South Fifth Street, Phoenix, AZ 85040, for service information identified in this proposed AD.

FOR FURTHER INFORMATION CONTACT: Tracy Ton, Aerospace Engineer, Cabin Safety/Mechanical and Environmental Systems Branch, ANM-150L, FAA, Los Angeles Aircraft Certification Office, 3960 Paramount Boulevard, Lakewood, California 90712-4137; telephone (562) 627-5352; fax (562) 627-5210.

SUPPLEMENTARY INFORMATION:

Comments Invited

We invite you to submit any written relevant data, views, or arguments regarding this proposed AD. Send your comments to an address listed under ADDRESSES. Include “Docket No. FAA-2007-28370; Directorate Identifier 2003-NM-239-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received several reports indicating that Goodrich evacuation systems installed on certain Boeing Model 747 airplanes and Model 767 airplanes have not deployed properly due to corroded shear-pin restraints. The corrosion problem arose concurrently with a 1998 change in the anodize specification for restraint bodies. Corrosion of the shear-pin restraints, if not corrected, can lead to higher than designed release values, and in severe cases, can cause the two halves of the restraints to freeze up, which can lead to improper deployment and/or loss of use of the evacuation system. That loss could impede emergency evacuation and increase the chance of injury to passengers and flightcrew during the evacuation.

Other Relevant Rulemaking

The reports involved certain Boeing Model 747 airplanes and Model 767 airplanes that are equipped with the affected Goodrich evacuation system as part of a type certificate (TC); however, certain Goodrich evacuation systems installed as a technical standard order (TSO) appliance on certain Airbus, Boeing and McDonnell Douglas transport category airplanes use the same restraints as those used by the affected type certificated Goodrich units. Therefore evacuation systems approved by either TSO or TC are subject to the identified unsafe condition. We are planning to issue similar rulemaking (Directorate Identifier 2005-NM-139-AD) for certain Boeing Model 747 airplanes and Model 767 airplanes that are equipped with certain type certificated Goodrich evacuation systems.

Relevant Service Information

We have reviewed Goodrich Service Bulletins 25-343, Revision 3, dated January 12, 2007; and 25-344, Revision 2, dated October 11, 2006. Goodrich Service Bulletin 25-343 affects evacuation systems installed on certain Boeing and McDonnell Douglas transport category airplanes. Goodrich Service Bulletin 25-344 affects evacuation systems installed on certain Airbus transport category airplanes. For certain systems, the service bulletins describe procedures for replacing the shear-pin restraints with new, improved restraints. For certain other systems, the service bulletins describe procedures for an inspection to verify the manufacturing lot number of the restraints; and a general visual inspection of the restraints for discrepancies (i.e., corrosion, security of pin retainer/label, overall condition, and lack of play), and corrective action if necessary. The corrective action is replacing the shear-pin restraints with new shear-pin restraints. Accomplishing the actions specified in the service information is intended to adequately address the unsafe condition.

FAA's Determination and Requirements of the Proposed AD

We have evaluated all pertinent information and identified an unsafe condition that is likely to exist or develop on other products of this same type design. Therefore, we are proposing this AD, which would require you to use the service information described previously to perform these actions, except as discussed under “Difference Between this Proposed AD and the Service Bulletins.”

Difference Between This Proposed AD and the Service Bulletins

Although the service bulletins recommend accomplishing the replacement or inspection “at the next shop visit,” we have determined that this imprecise compliance time would not address the identified unsafe condition soon enough to ensure an adequate level of safety for the affected fleet. In developing an appropriate compliance time for this AD, we considered the manufacturer's recommendation, the degree of urgency associated with the subject unsafe condition, and the average utilization of the affected fleet. In light of all of these factors, we find that a compliance time of 18 months for Goodrich evacuation systems installed on Boeing Model 767 off-wing ramp/slide units and 36 months for all other evacuation systems represents an appropriate interval of time for affected airplanes to continue to operate without compromising safety. We have coordinated this difference with the manufacturer.

Costs of Compliance

This proposed AD would affect certain Goodrich evacuation systems installed on about 2,844 airplanes worldwide. This proposed AD would affect about 1,240 airplanes of U.S. registry. The following table provides the estimated costs for U.S. operators to comply with this proposed AD.

Estimated Costs
Action | Work hours | Average labor rate per hour | Parts | Cost per slide unit | Number of slide units per airplane | Fleet cost
Replacement | Between 2 and 9 | $80 | Between $58 and $638, depending on number of restraints | Between $218 and $1,358 | Between 2 and 12. | Between $540,640 and $20,207,040.
Inspection | Between 2 and 9 | $80 | None | Between $160 and $720 | Between 2 and 12. | Between $396,800 and $10,713,600.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends 39.13 by adding the following new airworthiness directive (AD):

Goodrich (Formerly BFGoodrich): Docket No. FAA-2007-28370; Directorate Identifier 2003-NM-239-AD.

Comments Due Date

(a) The Federal Aviation Administration (FAA) must receive comments on this AD action by July 23, 2007.

Affected ADs

(b) None.

Applicability

(c) This AD applies to:

(1) Goodrich evacuation systems approved under Technical Standard Order (TSO) TSO-C69, TSO-C69a, and TSO-C69b, installed on certain Boeing airplanes, certificated in any category, as listed in Table 1 of this AD;

(2) Goodrich evacuation systems approved under TSO-C69, TSO-C69a, and TSO-C69b, installed on certain McDonnell Douglas airplanes, certificated in any category, as listed in Table 2 of this AD; and

(3) Goodrich evacuation systems approved under TSO-C69a, TSO-C69b, and TSO-C69c, installed on Airbus airplanes, certificated in any category, as listed in Table 3 of this AD.

Table 1.—Goodrich Evacuation Systems Installed on Certain Boeing Model Airplanes
Goodrich evacuation systems having part number (P/N)— | Having any serial number (S/N)— | Component/part is named— | Installed on Boeing Model—
(i) 101623-303 | PB0400 through PB0453 inclusive | Slide, forward/aft door | 767-200 and -300 series airplanes.
(ii) 101630-305 | PG0276 through PG0309 inclusive | Ramp/Slide, off-wing, left-hand (LH) side | 767-200 and -300 series airplanes.
(iii) 101630-306 | PC0264 through PC0368 inclusive | Ramp/Slide, off-wing, right-hand (RH) side | 767-200 and -300 series airplanes.
(iv) 101655-305 | PK0161 through PK0212 inclusive | Ramp/Slide, off-wing, LH side | 767-200 and -300 series airplanes.
(v) 101655-306 | PF0164 through PF0220 inclusive | Ramp/Slide, off-wing, RH side | 767-200 and -300 series airplanes.
(vi) 101656-305 | PH0300 through PH0390 inclusive | Ramp/Slide, off-wing, LH side | 767-200 and -300 series airplanes.
(vii) 101656-306 | PD0294 through PD0378 inclusive | Ramp/Slide, off-wing, RH side | 767-200 and -300 series airplanes.
(viii) 101658-101 and 101658-103 | PAK137 through PAK150 inclusive | Slide, forward door | 737-200 series airplanes.
(ix) 101659-101 through 101659-205 inclusive | PAL671 through PAL738 inclusive | Slide, aft door | 737-200, -300, -400, and -500 series airplanes.
(x) 101660-101 through 101660-107 inclusive | PAB611 through PAB649 inclusive | Slide, forward door | 737-300, -400, and -500 series airplanes.
(xi) 5A3086-3 and 5A3086-301 | B3F315 through B3F611 inclusive | Slide, forward door | 737-600, -700, -700C, -800, and -900 series airplanes.
(xii) 5A3088-3 and 5A3088-301 | B3A338 through B3A685 inclusive | Slide, aft door | 737-600, -700, -700C, -800, and -900 series airplanes.
(xiii) 5A3109-1 | Odd S/Ns ST0015 through ST0131 | Ramp/Slide, off-wing, LH side | 777-300 and -300ER series airplanes.
(xiv) 5A3109-2 | Even S/Ns ST0014 through ST0128 | Ramp/Slide, off-wing, RH side | 777-300 and -300ER series airplanes.
(xv) 5A3294-1 and 5A3294-2 | SS0001 through SS0210 inclusive | Slide/Raft, door 2 | 767-300 and -400ER series airplanes.
(xvi) 5A3295-1 and 5A3295-3 | SF0001 through SF0501 inclusive | Slide/Raft, doors 1 and 4 | 767-200, -300, and -400ER series airplanes.
(xvii) 5A3307-1 through 5A3307-5 inclusive and 5A3307-301 | BNG0213 through BNG4911 inclusive | Slide, forward/aft door | 737-600, -700, -700C, -800, and -900 series airplanes.
(xviii) 7A1323-111 through 7A1323-114 inclusive | GS1340 through GS1879 inclusive | Slide, stretched upper deck | 747-100B SUD, -300, -400, and -400D series airplanes.
(xix) 7A1394-4 and 7A1394-6 | GV0214 through GV0249 inclusive | Slide/Raft, forward/aft doors | 767-200 and -300 series airplanes.
(xx) 7A1418-21 and 7A1418-23 | Odd S/Ns GT1591 through GT1857 | Ramp/Slide, off-wing door 3, LH side | 747-100, -100B, -100B SUD, -200B, -200C, -300, -400, -400D, and 747SR series airplanes.
(xxi) 7A1418-22 and 7A1418-24 | Even S/Ns GT1576 through GT1830 | Ramp/Slide, off-wing door 3, RH side | 747-100, -100B, -100B SUD, -200B, -200C, -300, -400, -400D, and 747SR series airplanes.
(xxii) 7A1447-39 through 7A1447-54 inclusive | GW2682 through GW2923 inclusive | Slide/Raft, doors 1, 2, and 4 | 747-100, -100B, -100B SUD, -200B, -200C, -300, and 747SR series airplanes.
(xxiii) 7A1448-5 through 7A1448-12 inclusive | GX1538 through GX1593 inclusive | Slide/Raft, door 5 | 747-100, -100B, -100B SUD, -200B, -200C, -300, and 747SR series airplanes.
(xxiv) 7A1467-21 and 7A1467-23 | Odd S/Ns GH1969 through GH2443 | Slide/Raft, doors 1 and 4, LH side | 747-400 and -400D series airplanes.
(xxv) 7A1467-22 and 7A1467-24 | Even S/Ns GH1954 through GH2420 | Slide/Raft, doors 1 and 4, RH side | 747-400 and -400D series airplanes.
(xxvi) 7A1469-13 | Odd S/Ns GJ909 through GJ1163 | Slide/Raft, door 5, LH side | 747-400 and -400D series airplanes.
(xxvii) 7A1469-14 | Even S/Ns GJ912 through GJ1150 | Slide/Raft, door 5, RH side | 747-400 and -400D series airplanes.
(xxviii) 7A1479-13 | Odd S/Ns GI1019 through GI1265 | Slide/Raft, door 2, LH side | 747-300, -400, and -400D series airplanes.
(xxix) 7A1479-14 | Even S/Ns GI1036 through GI1298 | Slide/Raft, door 2, RH side | 747-300, -400, and -400D series airplanes.
(xxx) 7A1489-3 | Odd S/Ns GK355 through GK403 | Slide/Raft, mid door, LH side | 767-300 series airplanes.
(xxxi) 7A1489-4 | Even S/Ns GK356 through GK406 | Slide/Raft, mid door, RH side | 767-300 series airplanes.
(xxxii) 101623-107 through 101623-303 inclusive | PB0001 through PB0399 inclusive, and all S/Ns with a B23 prefix | Slide, forward/aft door | 767-200 and -300 series airplanes.
(xxxiii) Odd dash numbers 101630-105 through 101630-305 | PG0001 through PG0275 inclusive, and all S/Ns with a B101 prefix | Ramp/Slide, off-wing, LH side | 767-200 and -300 series airplanes.
(xxxiv) Even dash numbers 101630-106 through 101630-306 | PC0001 through PC0263 inclusive, and all S/Ns with a B102 prefix | Ramp/Slide, off-wing, RH side | 767-200 and -300 series airplanes.
(xxxv) Odd dash numbers 101655-101 through 101655-305 | PK0001 through PK0160 inclusive, and all S/Ns with a L55 prefix | Ramp/Slide, off-wing, LH side | 767-200 and -300 series airplanes.
(xxxvi) Even dash numbers 101655-102 through 101655-306 | PF0001 through PF0163 inclusive, and all S/Ns with a R55 prefix | Ramp/Slide, off-wing, RH side | 767-200 and -300 series airplanes.
(xxxvii) Odd dash numbers 101656-103 through 101656-305 | PH0001 through PH0299 inclusive, and all S/Ns with a L56 prefix | Ramp/Slide, off-wing, LH side | 767-200 and -300 series airplanes.
(xxxviii) Even dash numbers 101656-104 through 101656-306 | PD0001 through PD0293 inclusive, and all S/Ns with a R56 prefix | Ramp/Slide, off-wing, RH side | 767-200 and -300 series airplanes.
(xxxix) 101658-101 and 101658-103 | PAK001 through PAK136 inclusive | Slide, forward door | 737-200 series airplanes.
(xl) 101659-101 through 101659-205 inclusive | PAL001 through PAL670 inclusive | Slide, aft door | 737-200, -300, -400, and -500 series airplanes.
(xli) 101660-101 through 101660-107 inclusive | PAB001 through PAB610 inclusive | Slide, forward door | 737-300, -400, and -500 series airplanes.
(xlii) 5A3086-3 and 5A3086-301 | B3F001 through B3F314 inclusive | Slide, forward door | 737-600, -700, -700C, -800, and -900 series airplanes.
(xliii) 5A3088-3 and 5A3088-301 | B3A001 through B3A337 inclusive | Slide, aft door | 737-600, -700, -700C, -800, and -900 series airplanes.
(xliv) 5A3109-1 | Odd S/Ns, ST0001 through ST0013 | Ramp/Slide, off-wing, LH side | 777-300 and -300ER series airplanes.
(xlv) 5A3109-2 | Even S/Ns, ST0002 through ST0012 | Ramp/Slide, off-wing, RH side | 777-300 and -300ER series airplanes.
(xlvi) 5A3307-1 through 5A3307-5 inclusive, and 5A3307-301 | BNG0001 through BNG0212 inclusive | Slide, forward/aft door | 737-600, -700, -700C, -800, and -900 series airplanes.
(xlvii) 7A1323-1 through 7A1323-114 inclusive | GS0001 through GS1339 inclusive, and all S/Ns with a single G prefix | Slide, Stretched upper deck | 747-100B SUD, -300, -400, and -400D series airplanes.
(xlviii) 7A1394-3 through 7A1394-6 inclusive | GV001 through GV213 inclusive, and all S/Ns with a single G prefix | Slide/Raft, forward/aft doors | 767-200 and -300 series airplanes.
(xlix) Odd dash numbers 7A1418-1 through 7A1418-23 | Odd S/Ns GT0001 through GT1589, and all odd S/Ns with a single letter G prefix | Ramp/Slide, off-wing door 3, LH side | 747-100, -100B, -100B SUD, -200B, -200C, -300, -400, -400D, and 747SR series airplanes.
(l) Even dash numbers 7A1418-2 through 7A1418-24 | Even S/Ns GT0002 through GT1574, and all even S/Ns with a single letter G prefix | Ramp/Slide, off-wing door 3, RH side | 747-100, -100B, -100B SUD, -200B, -200C, -300, -400, -400D, and 747SR series airplanes.
(li) 7A1437-1 through 7A1437-8 inclusive | GW0001 through GW2923 inclusive, and all S/Ns with a single letter G prefix | Slide/Raft, doors 1, 2, and 4 | 747-100B, -200C, -300, and 747SR series airplanes.
(lii) 7A1439-1 through 7A1439-8 inclusive | GX0001 through GX1593 inclusive, and all S/Ns with a single letter G prefix | Slide/Raft, door 5 | 747-100B, -200C, -300, and 747SR series airplanes.
(liii) 7A1447-1 through 7A1447-54 inclusive | GW0001 through GW2681 inclusive, and all S/Ns with a single letter G prefix | Slide/Raft, doors 1, 2, and 4 | 747-100, -100B, -100B SUD, -200B, -200C, -300, and 747SR series airplanes.
(liv) 7A1448-1 through 7A1448-12 inclusive | GX0001 through GX1537, and all S/Ns with a single letter G prefix | Slide/Raft, door 5 | 747-100, -100B, -100B SUD, -200B, -200C, -300, and 747SR series airplanes.
(lv) Odd dash numbers 7A1467-1 through 7A1467-23 | Odd S/Ns GH0001 through GH1967, and all odd S/Ns with a single letter G prefix | Slide/Raft, doors 1 and 4, LH side | 747-400 and -400D series airplanes.
(lvi) Even dash numbers 7A1467-2 through 7A1467-24 | Even S/Ns GH0002 through GH1952, and all even S/Ns with a single letter G prefix | Slide/Raft, doors 1 and 4, RH side | 747-400 and -400D series airplanes.
(lvii) Odd dash numbers 7A1469-1 through 7A1469-13 | Odd S/Ns GJ001 through GJ907, and all odd S/Ns with a single letter G prefix | Slide/Raft, door 5, LH side | 747-400 and -400D series airplanes.
(lviii) Even dash numbers 7A1469-2 through 7A1469-14 | Even S/Ns GJ002 through GJ910, and all even S/Ns with a single letter G prefix | Slide/Raft, door 5, RH side | 747-400 and -400D series airplanes.
(lix) Odd dash numbers 7A1479-1 through 7A1479-13 | Odd S/Ns GI0001 through GI1017, and all odd S/Ns with a single letter G prefix | Slide/Raft, door 2, LH side | 747-300, -400, and -400D series airplanes.
(lx) Even dash numbers 7A1479-2 through 7A1479-14 | Even S/Ns GI0002 through GI1034, and all even S/Ns with a single letter G prefix | Slide/Raft, door 2, RH side | 747-300, -400, and -400D series airplanes.
(lxi) 7A1489-1 and 7A1489-3 | Odd S/Ns GK001 through GK353, and all odd S/Ns with a single letter G prefix | Slide/Raft, mid door, LH side | 767-300 series airplanes.
(lxii) 7A1489-2 and 7A1489-4 | Even S/Ns GK002 through GK354, and all even S/Ns with a single letter G prefix | Slide/Raft, mid door, RH side | 767-300 series airplanes.

Table 2.—Goodrich Evacuation Systems Installed on Certain McDonnell Douglas Model Airplanes
Goodrich evacuation systems having P/N— | Having any S/N— | Component/part is named—> | Installed on McDonnell Douglas Model—
(i) 100504-101 through 100504-205 inclusive | D9F161 through D9F256 inclusive, and PU0325 through PU0331 inclusive | Slide, forward door | DC-9-81 (MD-81), DC-9-82 (MD-82), DC-9-83 (MD-83), and DC-9-87 (MD-87) airplanes; Model MD-88 airplanes; and Model MD-90-30 airplanes.
(ii) 100505-101 through 100505-201 inclusive | D9A078 through D9A122 inclusive, and PS0151 through PS0157 inclusive | Slide, aft door | DC-9-81 (MD-81), DC-9-82 (MD-82), DC-9-83 (MD-83), and DC-9-87 (MD-87) airplanes; Model MD-88 airplanes; and Model MD-90-30 airplanes.
(iii) 100506-103 through 100506-203 inclusive | D9T085 through D9T127 inclusive, and PT0175 through PT0178 inclusive | Slide, tailcone | DC-9-81 (MD-81), DC-9-82 (MD-82), DC-9-83 (MD-83), and DC-9-87 (MD-87) airplanes; Model MD-88 airplanes; and Model MD-90-30 airplanes.
(iv) 100504-101 through 100504-205 inclusive | D9F001 through D9F160 inclusive, and PU0001 through PU0324 inclusive | Slide, forward door | DC-9-81 (MD-81), DC-9-82 (MD-82), DC-9-83 (MD-83), and DC-9-87 (MD-87) airplanes; Model MD-88 airplanes; and Model MD-90-30 airplanes.
(v) 100505-101 through 100505-201 inclusive | D9A001 through D9A077 inclusive, and PS0001 through PS0150 inclusive | Slide, aft door | DC-9-81 (MD-81), DC-9-82 (MD-82), DC-9-83 (MD-83), and DC-9-87 (MD-87) airplanes; Model MD-88 airplanes; and Model MD-90-30 airplanes.
(vi) 100506-103 through 100506-203 inclusive | D9T001 through D9T084 inclusive, and PT0001 through PT0174 inclusive | Slide, tailcone | DC-9-81 (MD-81), DC-9-82 (MD-82), DC-9-83 (MD-83), and DC-9-87 (MD-87) airplanes; Model MD-88 airplanes; and Model MD-90-30 airplanes.
(vii) 7A1274-3 through 7A1274-12 inclusive | All | Slide, forward/service door | DC-9-81 (MD-81) and DC-9-82 (MD-82) airplanes.
(viii) 7A1275-3 through 7A1275-20 inclusive | All | Slide, aft door | DC-9-81 (MD-81) and DC-9-82 (MD-82) airplanes.
(ix) 7A1276-3 through 7A1276-12 inclusive | All | Slide, tailcone | DC-9-11, DC-9-12, DC-9-13, DC-9-14, DC-9-15, and DC-9-15F airplanes; Model DC-9-21 airplanes; Model DC-9-31, DC-9-32, DC-9-32 (VC-9C), DC-9-32F, DC-9-33F, DC-9-34, DC-9-34F, and DC-9-32F (C-9A, C-9B) airplanes; Model DC-9-41 airplanes; Model DC-9-51 airplanes; and Model DC-9-81 (MD-81), DC-9-82 (MD-82), DC-9-83 (MD-83), and DC-9-87 (MD-87) airplanes.

Table 3.—Goodrich Evacuation Systems Installed on Certain Airbus Model Airplanes
Goodrich evacuation system having P/N— | Having any S/N— | Component/part is named— | Installed on Airbus Model—
(i) 4A3928-1 | AY0001 through AY0007 inclusive | Slide, door 3 type 1, LH side | A340-541 airplanes.
(ii) 4A3928-2 | AZ0001 through AZ0007 inclusive | Slide, door 3 type 1, RH side | A340-541 airplanes.
(iii) 4A3931-1 and 4A3931-3 | AQ0001 through AQ0028 inclusive | Ramp/Slide, off-wing, LH side | A340-642 airplanes.
(iv) 4A3931-2 and 4A3931-4 | AT0001 through AT0028 inclusive | Ramp/Slide, off-wing, RH side | A340-642 airplanes.
(v) 4A3934-1 and 4A3934-3 | AK0001 through AK0028 inclusive | Slide/Raft, door 3, LH side | A340-642 airplanes.
(vi) 4A3934-2 and 4A3934-4 | AM0001 through AM0028 inclusive | Slide/Raft, door 3, RH side | A340-642 airplanes.
(vii) 7A1296-004 and 7A1296-005 | WB0030 through WB0033 inclusive | Slide, mid door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(viii) 7A1297-103 and 7A1297-203 | WF0257 through WF0273 inclusive | Ramp/Slide, off-wing door | A310-203, -204, -221, and -222 airplanes; and Model A310-304, -322, -324, and -325 airplanes.
(ix) 7A1298-004 and 7A1298-005 | WA0327 through WA0374 inclusive | Slide, forward/aft door | A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; and Model A310-203, -204, -221, and -222 airplanes; and Model A310-304, -322, -324, and -325 airplanes.
(x) 7A1299-006 | WE0149 through WE0172 inclusive | Slide, emergency door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xi) 7A1300-007 | WC0423 through WC0507 inclusive | Slide/Raft, forward/aft door | A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; and Model A310-203, -204, -221, and -222 airplanes; and Model A310-304, -322, -324, and -325 airplanes.
(xii) 7A1359-005 | WD0134 through WD0159 inclusive | Slide/Raft, mid door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xiii) 7A1508-109 through 7A1508-117 inclusive | AA1041 through AA2419 inclusive | Slide/Raft, doors 1 and 4 | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xiv) 7A1509-111, 7A1509-115 and 7A1509-117 | AD0487 through AD1007 inclusive | Slide, door 3 type 1 | A330-201, -202, -203, -223, and -243 airplanes; Model A330-301, -321, -322, -323, -341, -342, and -343 airplanes; Model A340-211, -212, and -213 airplanes; and Model A340-311, -312, and -313 airplanes.
(xv) 7A1510-109 through 7A1510-117 inclusive | AB0077 through AB0150 inclusive | Slide/Raft, door 3 type A, LH side | A330-201, -202, -203, -223, and -243 airplanes; Model A330-301, -321, -322, -323, -341, -342, and -343 airplanes; Model A340-211, -212, and -213 airplanes; and Model A340-311, -312, and -313 airplanes.
(xvi) 7A1510-110 through 7A1510-118 inclusive | AC0077 through AC0148 inclusive | Slide/Raft, door 3 type A, RH side | A330-201, -202, -203, -223, and -243 airplanes; Model A330-301, -321, -322, -323, -341, -342, and -343 airplanes; Model A340-211, -212, and -213 airplanes; and Model A340-311, -312, and -313 airplanes.
(xvii) 7A1539-109 through 7A1539-117 inclusive | AU0302 through AU0677 inclusive | Slide/Raft, door 2, LH side | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xviii) 7A1539-110 through 7A1539-118 inclusive | AX0302 through AX0673 inclusive | Slide/Raft, door 2, RH side | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xix) 7A1296-001 through 7A1296-004 inclusive | WB0001 through WB0029 inclusive, all S/Ns with a single letter R prefix, and all S/Ns with a single letter G prefix | Slide, mid door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xx) 7A1297-101 through 7A1297-203 inclusive | WF0001 through WF0256 inclusive, all S/Ns with a single letter R prefix, and all S/Ns with a single letter G prefix | Ramp/Slide, off-wing door | A310-203, -204, -221, and -222 airplanes; and Model A310-304, -322, -324, and -325 airplanes.
(xxi) 7A1298-001 through 7A1298-004 inclusive | WA0001 through WA0326 inclusive, all S/Ns with a single letter R prefix, and all S/Ns with a single letter G prefix | Slide, forward/aft door | A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; and Model A310-203, -204, -221, and -222 airplanes; and Model A310-304, -322, -324, and -325 airplanes.
(xxii) 7A1299-001 through 7A1299-006 inclusive | WE0001 through WE0148 inclusive, all S/Ns with a single letter R prefix, and all S/Ns with a single letter G prefix | Slide, emergency door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xxiii) 7A1300-001 through 7A1300-007 inclusive | WC0001 through WC0422 inclusive, all S/Ns with a single letter R prefix, and all S/Ns with a single letter G prefix | Slide/Raft, forward/aft door | A300 B2-1A, B2-1C, B2K-3C, and B2-203 airplanes; Model A300 B4-2C, B4-103, and B4-203 airplanes; Model A300 B4-601, B4-603, B4-620, and B4-622 airplanes; Model A300 B4-605R and B4-622R airplanes; Model A300 F4-605R and F4-622R airplanes; and Model A310-203, -204, -221, and -222 airplanes; and Model A310-304, -322, -324, and -325 airplanes.
(xxiv) 7A1359-001 through 7A1359-005 inclusive | WD0001 through WD0133 inclusive, all S/Ns with a single letter R prefix, and all S/Ns with a single letter G prefix | Slide/Raft, mid door | A300 B2-1A, B2-1C, B2K-3C, and B2-203 airplanes; Model A300 B4-2C, B4-103, and B4-203 airplanes; Model A300 B4-601, B4-603, B4-620, and B4-622 airplanes; Model A300 B4-605R and B4-622R airplanes; and Model A300 F4-605R and F4-622R airplanes.
(xxv) 7A1508-001 through 7A1508-017 inclusive, and 7A1508-101 through 7A1508-117 inclusive | AA0001 through AA1040 inclusive | Slide/Raft, doors 1 and 4 | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xxvi) 7A1509-001 through 7A1509-005 inclusive, and 7A1509-101 through 7A1509-117 inclusive | AD0001 through AD0486 inclusive | Slide, door 3 type 1 | A330-201, -202, -203, -223, and -243 airplanes; Model A330-301, -321, -322, -323, -341, -342, and -343 airplanes; Model A340-211, -212, and -213 airplanes; and Model A340-311, -312, and -313 airplanes.
(xxvii) 7A1510-001 through 7A1510-017 inclusive, and 7A1510-101 through 7A1510-117 inclusive | AB0001 through AB0076 inclusive | Slide/Raft, door 3 type A, LH side | A330-201, -202, -203, -223, and -243 airplanes; Model A330-301, -321, -322, -323, -341, -342, and -343 airplanes; Model A340-211, -212, and -213 airplanes; and Model A340-311, -312, and -313 airplanes.
(xxviii) 7A1510-002 through 7A1510-018 inclusive, and 7A1510-102 through 7A1510-118 inclusive | AC0001 through AC0076 inclusive | Slide/Raft, door 3 type A, RH side | A330-201, -202, -203, -223, and -243 airplanes; Model A330-301, -321, -322, -323, -341, -342, and -343 airplanes; Model A340-211, -212, and -213 airplanes; and Model A340-311, -312, and -313 airplanes.
(xxix) 7A1539-001 through 7A1539-017 inclusive, and 7A1539-101 through 7A1539-117 inclusive | AU0001 thru AU0301 inclusive | Slide/Raft, door 2, LH side | A330-201, -202, -203, -223, and -243 airplanes; Model A330-301, -321, -322, -323, -341, -342, and -343 airplanes; Model A340-211, -212, and -213 airplanes; Model A340-311, -312, and -313 airplanes; Model A340-541 airplanes; and Model A340-642 airplanes.
(xxx) 7A1539-002 through 7A1539-018 inclusive, and 7A1539-102 through 7A1539-118 inclusive | AX0001 thru AX0301 inclusive | Slide/Raft, door 2, RH side | A330-201, -202, -203, -223, and -243 airplanes; Model A330-301, -321, -322, -323, -341, -342, and -343 airplanes; Model A340-211, -212, and -213 airplanes; Model A340-311, -312, and -313 airplanes; Model A340-541 airplanes; and Model A340-642 airplanes.

Unsafe Condition

(d) This AD is prompted by several reports of corroded shear-pin restraints that prevented Goodrich evacuation systems from deploying properly. We are issuing this AD to prevent failure of the evacuation system, which could impede an emergency evacuation and increase the chance of injury to passengers and flightcrew during the evacuation.

Compliance

(e) You are responsible for having the actions required by this AD performed within the compliance times specified, unless the actions have already been done.

Service Bulletin Reference

(f) The term “service bulletin,” as used in this AD, means the following service bulletins, as applicable:

(1) For Goodrich evacuation systems identified in Table 3 of this AD: Goodrich Service Bulletin 25-344, Revision 2, dated October 11, 2006; and

(2) For Goodrich evacuation systems identified in Tables 1 and 2 of this AD: Goodrich Service Bulletin 25-343, Revision 3, dated January 12, 2007.

Compliance Times

(g) Perform the actions specified in paragraph (h) of this AD at the applicable compliance time specified in paragraph (g)(1) or (g)(2) of this AD.

(1) For Goodrich evacuation systems installed on Boeing Model 767 airplanes as off-wing ramp/slide units and identified in Table 1 of this AD: Do the actions within 18 months after the effective date of this AD.

(2) For Goodrich evacuation systems other than those identified in paragraph (g)(1) of this AD: Do the actions within 36 months after the effective date of this AD.

Replacement, or Inspections and Corrective Action

(h) Do the actions specified in paragraph (h)(1) or (h)(2) of this AD in accordance with the Accomplishment Instructions of the applicable service bulletin.

(1) For Goodrich evacuation systems identified in paragraphs (c)(1)(i) through (c)(1)(xxxi) inclusive in Table 1 of this AD, (c)(2)(i) through (c)(2)(iii) inclusive in Table 2 of this AD, and (c)(3)(i) through (c)(3)(xviii) inclusive in Table 3 of this AD: Replace the shear-pin restraints with new restraints.

(2) For Goodrich evacuation systems identified in paragraphs (c)(1)(xxxii) through (c)(1)(lxii) inclusive in Table 1 of this AD, (c)(2)(iv) through (c)(2)(ix) inclusive in Table 2 of this AD, and (c)(3)(xix) through (c)(3)(xxx) inclusive in Table 3 of this AD: Do an inspection to verify the manufacturing lot number of the shear-pin restraint. A review of airplane maintenance records is acceptable in lieu of this inspection if the manufacturing lot number of the shear-pin restraint can be conclusively determined from that review.

(i) If a manufacturing lot number from 3375 through 5551 inclusive is found, before further flight, replace the shear-pin restraint with a new restraint.

(ii) If a manufacturing lot number from 3375 through 5551 inclusive is not found, do a general visual inspection of the shear-pin restraints for discrepancies (i.e., corrosion, security of pin retainer/label, overall condition, and lack of play). If any discrepancy is found, before further flight, replace the shear-pin restraint with a new restraint.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Parts Installation

(i) As of the effective date of this AD, no Goodrich evacuation system identified in paragraph (h)(1) of this AD may be installed on any airplane, unless the shear-pin restraints have been replaced with new restraints in accordance with paragraph (h)(1) of this AD.

(j) As of the effective date of this AD, no Goodrich evacuation system identified in paragraph (h)(2) of this AD may be installed on any airplane, unless the shear-pin restraints have been inspected and found acceptable in accordance with paragraph (h)(2) of this AD.

Credit for Actions Done Using Previous Service Information

(k) Replacements and inspections done before the effective date of this AD in accordance with the applicable service bulletins identified in Table 4 of this AD, are acceptable for compliance with the requirements of paragraph (h) of this AD.

Table 4.—Acceptable Goodrich Service Bulletins
Goodrich Service Bulletin | Revision level | Date
25-343 | Original | October 15, 2003.
25-343 | 1 | January 31, 2005.
25-343 | 2 | October 11, 2006.
25-344 | Original | October 15, 2003.
25-344 | 1 | January 31, 2005.

Alternative Methods of Compliance (AMOCs)

(l)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on May 30, 2007.
Ali Bahrami,
Manager, Transport Airplane Directorate, Aircraft Certification Service.

[FR Doc. E7-10992 Filed 6-7-07; 8:45 am]

BILLING CODE 4910-13-P